COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and a service to the Procurement List that will be furnished by nonprofit agencies employing persons who are blind or have other significant disabilities.

DATES: Comments must be received on or before: 7/31/2015.

ADDRESSES: Committee for Purchase From People Who Are Blind or Severely Disabled, 1401 S. Clark Street, Suite 715, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following products and service are proposed for addition to the Procurement List for production by the nonprofit agencies listed:

Products

NSN(s)-Product Name(s): 8540-00-262-7178—Towel, Paper, Single-Fold, Natural, 9-1/4″ W

Mandatory Purchase For: Total Government Requirement

Mandatory Source of Supply: The Lighthouse for the Blind in New Orleans, Inc., New Orleans, LA

Contracting Activity: General Services Administration, New York, NY

Distribution: A-List

NSN-Product Name: 8105-00-NIB-1412—Aquapad Sand-less Sandbag

Mandatory Purchase For: 100% of the requirement of the Department of Defense.

Mandatory Source of Supply: Envision Industries, Inc., Wichita, KS

Contracting Activity: DLA Troop Support C&E (CLASS IV), Philadelphia, PA

Distribution: C-List

Service

Service Type: Sourcing, Warehousing, Assembly and Kitting Service

Service Is Mandatory For: Montana Army National Guard, Ft Harrison, MT

Mandatory Source of Supply: Industries for the Blind Inc., West Allis, WI

Contracting Activity: United States Property and Fiscal Office (USPFO), Montana, Montana Army National Guard, Fort Harrison, MT

Barry S. Lineback,
Director, Business Operations.

[FR Doc. 2015-16298 Filed 7-1-15; 8:45 am]

BILLING CODE 6353-01-P